DEPARTMENT OF ENERGY

Federal Energy Regulatory Commission

Combined Notice of Filings #1

Take notice that the Commission received the following exempt wholesale generator filings:

Docket Numbers: EG26-109-000.

Applicants: WR Graceland Solar, LLC.

Description: WR Graceland Solar, LLC submits Notice of Self-Certification of Exempt Wholesale Generator Status.

Filed Date: 12/19/25.

Accession Number: 20251219-5103.

Comment Date: 5 p.m. ET 1/9/26.

Docket Numbers: EG26-110-000.

Applicants: Scioty Solar, LLC.

Description: Scioty Solar, LLC submits Notice of Self-Certification of Exempt Wholesale Generator Status.

Filed Date: 12/19/25.

Accession Number: 20251219-5108.

Comment Date: 5 p.m. ET 1/9/26.

Docket Numbers: EG26-111-000.

Applicants: Alligator Creek Solar, LLC.

Description: Alligator Creek Solar, LLC submits Notice of Self-Certification of Exempt Wholesale Generator Status.

Filed Date: 12/19/25.

Accession Number: 20251219-5115.

Comment Date: 5 p.m. ET 1/9/26.

Docket Numbers: EG26-112-000.

Applicants: Emerald Solar, LLC.

Description: Emerald Solar, LLC submits Notice of Self-Certification of Exempt Wholesale Generator Status.

Filed Date: 12/19/25.

Accession Number: 20251219-5122.

Comment Date: 5 p.m. ET 1/9/26.

Docket Numbers: EG26-113-000.

Applicants: Two Blues Solar, LLC.

Description: Two Blues Solar, LLC submits Notice of Self-Certification of Exempt Wholesale Generator Status.

Filed Date: 12/19/25.

Accession Number: 20251219-5127.

Comment Date: 5 p.m. ET 1/9/26.

Docket Numbers: EG26-114-000.

Applicants: Baroness Solar, LLC.

Description: Baroness Solar, LLC submits Notice of Self-Certification of Exempt Wholesale Generator Status.

Filed Date: 12/19/25.

Accession Number: 20251219-5130.

Comment Date: 5 p.m. ET 1/9/26.

Take notice that the Commission received the following electric rate filings:

Docket Numbers: ER26-504-001.

Applicants: PJM Interconnection, L.L.C.

Description: Tariff Amendment: Errata to Amendment to GIA, SA No. 7446; ID No. A18/AA1-043/AD2-035/AF2-030 to be effective 1/13/2026.

Filed Date: 12/18/25.

Accession Number: 20251218-5308.

Comment Date: 5 p.m. ET 1/8/26.

Docket Numbers: ER26-546-001.

Applicants: PJM Interconnection, L.L.C.

Description: Tariff Amendment: Amendment to Pending Filing; Amended ISA No. 7010; Queue No. AF1-094 to be effective 1/19/2026.

Filed Date: 12/19/25.

Accession Number: 20251219-5503.

Comment Date: 5 p.m. ET 1/9/26.

Docket Numbers: ER26-812-000.

Applicants: Midcontinent Independent System Operator, Inc.

Description: § 205(d) Rate Filing: 2025-12-18_SA 4626 Ameren Missouri-Ameren Missouri GIA (R1059) to be effective 12/11/2025.

Filed Date: 12/18/25.

Accession Number: 20251218-5253.

Comment Date: 5 p.m. ET 1/8/26.

Docket Numbers: ER26-813-000.

Applicants: Southwest Power Pool, Inc.

Description: § 205(d) Rate Filing: Add FSE Transfer Point to List of Qualifying Sources for Candidate LTCRs/ARRs to be effective 4/1/2026.

Filed Date: 12/18/25.

Accession Number: 20251218-5257.

Comment Date: 5 p.m. ET 1/8/26.

Docket Numbers: ER26-814-000.

Applicants: Summer Energy Midwest, LLC.

Description: § 205(d) Rate Filing: Summer Energy Midwest Notice of Change in Status to be effective 12/19/2025.

Filed Date: 12/18/25.

Accession Number: 20251218-5258.

Comment Date: 5 p.m. ET 1/8/26.

Docket Numbers: ER26-815-000.

Applicants: MidAmerican Energy Company, Cordova Energy Company LLC.

Description: § 205(d) Rate Filing: Cordova Energy Company LLC submits tariff filing per 35.13(a)(2)(iii: Affiliate Capacity Purchase Agreement to be effective 2/17/2026.

Filed Date: 12/18/25.

Accession Number: 20251218-5267.

Comment Date: 5 p.m. ET 1/8/26.

Docket Numbers: ER26-816-000.

Applicants: Municipal Prepaid Energy 1, LLC.

Description: Initial Rate Filing: Market-Based Rate Application to be effective 2/17/2026.

Filed Date: 12/18/25.

Accession Number: 20251218-5270.

Comment Date: 5 p.m. ET 1/8/26.

Docket Numbers: ER26-817-000.

Applicants: Interstate Power and Light Company.

Description: § 205(d) Rate Filing: Salt Creek LBA to be effective 12/1/2025.

Filed Date: 12/18/25.

Accession Number: 20251218-5297.

Comment Date: 5 p.m. ET 1/8/26.

Docket Numbers: ER26-818-000.

Applicants: Southwest Power Pool, Inc.

Description: § 205(d) Rate Filing: 4546 Overland Station Wind Energy GIA to be effective 11/20/2025.

Filed Date: 12/19/25.

Accession Number: 20251219-5065.

Comment Date: 5 p.m. ET 1/9/26.

Docket Numbers: ER26-819-000.

Applicants: Southwest Power Pool, Inc.

Description: § 205(d) Rate Filing: Revisions to Allow the SPP West BAA to Join the NWPP Reserve Sharing Group to be effective 4/1/2026.

Filed Date: 12/19/25.

Accession Number: 20251219-5181.

Comment Date: 5 p.m. ET 1/9/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: December 19, 2025.
Debbie-Anne A. Reese,
Secretary.

[FR Doc. 2025-23951 Filed 12-29-25; 8:45 am]

BILLING CODE 6717-01-P